DEPARTMENT OF COMMERCE

National Oceanic and Atmospheric Administration

Final Management Plan for the Chesapeake Bay Virginia National Estuarine Research Reserve

AGENCY: Office for Coastal Management, National Ocean Service, National Oceanic and Atmospheric Administration (NOAA), Department of Commerce.

ACTION: Notice of approval for the revised management plan for the Chesapeake Bay Virginia National Estuarine Research Reserve.

SUMMARY: Notice is hereby given that the Office for Coastal Management, National Ocean Service, National Oceanic and Atmospheric Administration, U.S. Department of Commerce approves the revised management plan for the Chesapeake Bay Virginia Reserve. In accordance with applicable Federal regulations, the Virginia Institute of Marine Science revised the reserve's management plan, which replaces the plan previously approved in 2008.

ADDRESSES: The approved management plan can be downloaded or viewed at https://www.vims.edu/cbnerr/resources/resources_annual_reports.php. The document is also available by sending a written email request to Tricia Hooper, NOAA's Office for Coastal Management, Tricia.Hooper@noaa.gov.

FOR FURTHER INFORMATION CONTACT: Tricia Hooper, NOAA's Office for Coastal Management, Tricia.Hooper@noaa.gov, (617) 921-1998.

SUPPLEMENTARY INFORMATION: Pursuant to 15 CFR 921.33(c), a State must revise the management plan for its research reserve at least every five years. Changes to a reserve's management plan may be made only after receiving written approval from NOAA. NOAA approves changes to management plans via notice in the Federal Register. On March 1, 2022, NOAA issued a notice in the Federal Register announcing a thirty-day public comment period for the proposed revision of the Chesapeake Bay Virginia management plan (87 FR 11418).

Appendix J of the plan contains a summary of written and oral comments received, and an explanation of how comments were incorporated into the final version of the management plan.

The management plan outlines the reserve's strategic goals and objectives; administrative structure; programs for conducting research and monitoring, education, and training; resource protection, restoration, and manipulation plans; public access and visitor use plans; consideration for future land acquisition; and facility development to support reserve operations. Since 2008, the reserve has made notable investments in programs and infrastructure, which include launching the new Margaret A. Davidson Fellowship, reinvigorating the York River and Small Coastal Basin Roundtable, and establishing the Environmental Data Center and the Virginia Scientists and Educators Alliance with partners at the Virginia Institute of Marine Science. The reserve installed a floating dock at Taskinas Creek and Catlett Islands components, and maintained extensive Sentinel Site infrastructure, including boardways, sediment elevation tables, tide gauges, and survey benchmarks. The reserve also navigated changes in ownership and management at the Catlett Islands and Sweet Hall Marsh components, conducted an internal reorganization, and developed a comprehensive communications plan. The revised management plan will serve as the guiding document for the 3,072 acre (12 km²) research reserve for the next five years.

NOAA reviewed the environmental impacts of the revised management plan and determined that this action is categorically excluded from further analysis under the National Environmental Policy Act, consistent with NOAA Administrative Order 216-6.

Authority: 16 U.S.C. 1451 et seq.; 15 CFR 921.33.

Keelin S. Kuipers,
Deputy Director, Office for Coastal Management, National Ocean Service, National Oceanic and Atmospheric Administration.

[FR Doc. 2022-19006 Filed 9-1-22; 8:45 am]

BILLING CODE 3510-NK-P